DEPARTMENT OF TRANSPORTATION

Surface Transportation Board

[STB Finance Docket No. 34836]

Arizona Eastern Railway—Construction and Operation Exemption—In Graham County, Arizona

AGENCIES: Lead: Surface Transportation Board. Cooperating: Federal Railroad Administration.

ACTION: Notice of Availability of Environmental Assessment and Request for Public Review and Comment.

SUMMARY: On August 4, 2006, the Arizona Eastern Railway (AZER) filed a petition with the Surface Transportation Board (Board) seeking an exemption under 49 United States Code (U.S.C.) 10502 from prior approval requirements of 49 U.S.C. 10901 for authority to construct and operate 12 miles of new rail line in Graham County, Arizona (AZ). The Board, through its Section of Environmental Analysis (SEA) and in cooperation with the Federal Railroad Administration (FRA), is the lead agency responsible for the preparation of the Environmental Assessment (EA).

The Proposed Action is the construction and operation of a new rail line to connect the Phelps Dodge Dos Pobres Mine (Mine) with the existing 133.5-mile AZER line that operates between Miami, AZ and Bowie, AZ. The proposed rail line would begin near Safford, AZ, at AZER milepost 1133.5, known as the “Lone Star Junction” and proceed northerly for 12.1 miles, terminating at the Mine. The proposed rail line would cross agricultural and undeveloped lands, the Gila River, and then would turn in a northeast direction toward the Safford Municipal Airport. The proposed rail line would cross U.S. Highway 70 west of the San Simon River and would also cross Solomon Road, Airport Road, Lone Star Mountain Road, San Juan Road, and Phelps Dodge Road. The crossing at U.S. Highway 70 would consist of a signalized at-grade crossing, including warning lights and automated gates. The other roadway crossings, where traffic volumes are generally low, would consist of signed at-grade crossings with warning lights. The proposed rail line would accommodate one round trip per day, seven days per week, each day of the year. Each trip would consist of 20 to 25 railcars. Principal commodities to be handled include sulfuric acid, copper, and copper-related products.

Based on the information provided from all sources to date and its independent analysis, SEA preliminarily concludes that construction and operation of the proposed rail line would not have significant environmental impacts if the Board imposes and AZER implements the recommended mitigation measures set forth in the EA.

Copies of the EA have been served on all interested parties and will be made available to additional parties upon request. The entire EA is also available for review on the Board's Web site (http://www.stb.dot.gov) by clicking on the “Decisions and Notices” link, then “E-LIBRARY” and searching by the Service Date (February 25, 2008) or Docket Number (FD 34836). SEA, working with FRA, will consider all comments received when making its final recommendations to the Board. The Board will then consider SEA's final recommendations and the complete environmental record in making its final decision in this proceeding.

DATES: The EA is available for public review and comment. All faxed and electronic comments must be submitted by March 31, 2008; comments sent by mail must be postmarked by March 31, 2008.

ADDRESSES: Send written comments (an original and two copies) to: Diana Wood, Section of Environmental Analysis, Surface Transportation Board, Case Control Unit, 395 E Street, SW., Washington, DC 20423.

Please reference STB Finance Docket No. 34836 in all correspondence. Comments on the EA may also be filed electronically on the Board's Web site, http://www.stb.dot.gov, by clicking on the “E-FILING” link.

FOR FURTHER INFORMATION CONTACT: Diana Wood, SEA Project Manager, at (202) 245-0302; e-mail: woodd@stb.dot.gov. Federal Information Relay Service for the hearing impaired: 1-800-877-8339.

Decided: February 25, 2008.
By the Board, Victoria Rutson, Chief, Section of Environmental Analysis.
Anne K. Quinlan,
Acting Secretary.

[FR Doc. E8-3480 Filed 2-22-08; 8:45 am]

BILLING CODE 4915-01-P